DEPARTMENT OF ENERGY

Federal Energy Regulatory Commission

[Docket No. CP03-75-000]

Freeport LNG Development, L.P.; Notice of Intent To Prepare an Environmental Impact Statement for the Proposed Freeport LNG Project and Request for Comments on Environmental Issues and Notice of Public Scoping Meeting and Site Visit

May 13, 2003.

The staff of the Federal Energy Regulatory Commission (FERC or Commission) will prepare an environmental impact statement (EIS) that will discuss the environmental impacts of the Freeport LNG Project involving construction and operation of facilities by Freeport LNG Development, L.P. (Freeport) in Texas.¹ These facilities would consist of a liquefied natural gas (LNG) import terminal and storage facilities and 9.38 miles of 36-inch-diameter pipeline in Brazoria County. This EIS will be used by the Commission in its decision-making process to determine whether the project is in the public convenience and necessity.

¹ Freeport's application was filed with the Commission under Section 3(a) of the Natural Gas Act and Parts 153 and 380 of the Commission's regulations.

This notice is being sent to residences within 0.5 mile of Freeport's proposed LNG facilities and to landowners along the proposed pipeline route. If you are a landowner receiving this notice, you may be contacted by a pipeline company representative about the acquisition of an easement to construct, operate, and maintain the proposed facilities. The pipeline company would seek to negotiate a mutually acceptable agreement. However, if the project is approved by the Commission, that approval conveys with it the right of eminent domain. Therefore, if easement negotiations fail to produce an agreement, the pipeline company could initiate condemnation proceedings in accordance with state law.

A fact sheet prepared by the FERC entitled “An Interstate Natural Gas Facility On My Land? What Do I Need To Know?” was attached to the project notice Freeport provided to landowners. This fact sheet addresses a number of typically asked questions, including the use of eminent domain and how to participate in the Commission's proceedings. It is available for viewing on the FERC Internet Web site (www.ferc.gov).

Summary of the Proposed Project

Freeport proposes to build a new LNG import, storage, and vaporization terminal on Quintana Island, southeast of Freeport, Texas; and a natural gas pipeline to transfer up to 1.5 billion cubic feet per day of imported natural gas to the Texas market. This would help satisfy the demand for natural gas in the state of Texas. Freeport seeks authority to construct and operate the following new facilities at its proposed site:

• LNG ship docking and unloading facilities with a protected single berth equipped with mooring and breasting dolphins, three liquid unloading arms, and one vapor return arm;

• Reconfiguration of a storm protection levee and a permanent access road;

• Two 26-inch-diameter (32-inch outside diameter) LNG transfer lines and one 16-inch-diameter vapor return line;

• Service lines (instrument air, nitrogen, potable water, and firewater);

• Two double-walled LNG storage tanks each with a usable volume of 1,006,000 barrels (3.5 billion cubic feet of gas equivalent);

• Six 3,240 gallon-per-minute (gpm) in-tank pumps;

• Seven 2,315 gpm high pressure LNG booster pumps;

• Three boil-off gas compressors and a condensing system;

• Six high-pressure LNG vaporizers using a primary closed circuit water/glycol solution heated with twelve water/glycol boilers during cold weather and a set of intermediate heat exchangers using a secondary circulating water system heated by an air tower during warm weather, and circulation pumps for both systems;

• Two natural gas superheaters and two fuel gas heaters;

• Fire response system, flare, construction dock, utilities, buildings, and service facilities; and

• 9.38 miles of 36-inch-diameter natural gas pipeline extending from the LNG import terminal to a proposed Stratton Ridge Meter Station. The general location of the project facilities is shown in appendix 1.² More detailed maps of the pipeline route are also shown appendix 1.

² The appendices referenced in this notice are not being printed in the Federal Register. Copies are available from the Commission's Public Reference and Files Maintenance Branch, 888 First Street, NE., Washington, DC 20426, or call (202) 502-8371. For instructions on connecting to FERRIS refer to the last page of this notice. Copies of the appendices were sent to all those receiving this notice in the mail.

Freeport is requesting approval such that the terminal and pipeline are completed and placed into service in time to meet natural gas demand during the 2006-2007 winter heating season. Construction of the facilities would take about 3 years.

Land Requirements for Construction

Construction of the proposed LNG facility would require about 45.7 acres of land for the marine terminal, 140.4 acres for the storage and vaporization area, and 18.6 acres for the LNG transfer line. Construction of the proposed pipeline would disturb about 61.5 acres of land including the construction right-of-way, temporary extra workspaces, and the meter station. The construction right-of-way width for the pipeline would vary from 35 feet in wetland areas to 200 feet at horizontal directional drill sites.

Freeport would maintain a 30-to 50-foot-wide permanent right-of-way for operation of the pipeline. Total land requirements would be approximately 25.6 acres for new permanent right-of-way, 3.8 acres for the new meter station, and 146.4 acres for the LNG facilities.

The EIS Process

The National Environmental Policy Act (NEPA) requires the Commission to take into account the environmental impacts that could result from an action whenever it considers the issuance of a Certificate of Public Convenience and Necessity. NEPA also requires us ³ to discover and address concerns the public may have about proposals. This process is referred to as “scoping”. The main goal of the scoping process is to focus the analysis in the EIS on the important environmental issues. By this Notice of Intent, the Commission requests public comments on the scope of the issues it will address in the EIS. All comments received are considered during the preparation of the EIS. State and local government representatives are encouraged to notify their constituents of this proposed action and encourage them to comment on their areas of concern.

³ “We”, “us”, and “our” refer to the environmental staff of the Office of Energy Projects (OEP).

The EIS will discuss impacts that could occur as a result of the construction and operation of the proposed project under these general headings:

• Geology and soils

• Land use

• Water resources, fisheries, and wetlands

• Cultural resources

• Vegetation and wildlife

• Air quality and noise

• Endangered and threatened species

• Hazardous waste

• Public safety

We will also evaluate possible alternatives to the proposed project or portions of the project, and make recommendations on how to lessen or avoid impacts on the various resource areas.

Our independent analysis of the issues will be in the EIS. Depending on the comments received during the scoping process, the EIS may be published and mailed to Federal, state, and local agencies, public interest groups, interested individuals, affected landowners, newspapers, libraries, and the Commission's official service list for this proceeding. A comment period will be allotted for review if the EIS is published. We will consider all comments on the EIS before we make our recommendations to the Commission.

To ensure your comments are considered, please carefully follow the instructions in the public participation section beginning on page 6.

Currently Identified Environmental Issues

We have already identified several issues that we think deserve attention based on a preliminary review of the proposed facilities and the environmental information provided by Freeport. This preliminary list of issues may be changed based on your comments and our analysis.

• Geology and Soils:

—Assessment of potential site subsidence.

—Assessment of potentially contaminated dredged material.

—Impact of an additional 200 ship transits per year on the ongoing erosion of Quintana Island.

• Water Resources:

—Impact on groundwater and water supply wells.

—Assessment of dredge and fill of coastal wetlands by the construction.

—Assessment of the use and release of hydrostatic test water.

• Fish, Wildlife, and Vegetation:

—Effect on essential fish habitat.

—Effect on the Quintana Neotropical Bird Sanctuary.

—Control of noxious weeds within the pipeline right-of-way.

• Endangered and Threatened Species:

—Potential effect on federally listed species.

• Cultural Resources:

—Assessment of cultural resources.

—Impact on Quintana Cemetary.

—Native American and tribal concerns.

• Land Use, Recreation and Special Interest Areas, and Visual Resources:

—Permanent land use alteration associated with site development.

—Impact of the proposed relocation of the Xeriscape Park.

—Impact on residences, including the potential relocation of a residence.

—Impact on recreational use of Quintana Beach County Park.

—Impact on recreational use of Surfside Beach.

—Evaluation of project's consistency with coastal zone management area guidelines.

—Visual impacts associated with new LNG storage tanks.

• Socioeconomics:

—Impact of traffic from 300 construction workers and 17,800 round trips of truck traffic delivering fill material on project site area.

—Effects of 200 LNG ship transits per year on existing ship traffic in the Port of Freeport.

—Effects of construction workforce demands on public services and housing.

• Air Quality and Noise:

—Effects on local air quality and noise environment from construction and operation of the proposed facilities.

—Effects of emissions from 200 additional LNG ships on air quality.

• Reliability and Safety:

—Assessment of hazards associated with the transport, unloading, storage, and vaporization of LNG.

—Assessment of potential allision of LNG ships with ships.

—Assessment of potential collisions of LNG ships with other ship traffic and structures in the port.

—Assessment of security associated with LNG ship traffic and an LNG import terminal.

—Assessment of hazards associated with a natural gas pipeline.

• Alternatives:

—Assessment of the use of existing LNG import terminals and natural gas pipeline systems to reduce or avoid environmental impacts.

—Evaluation of alternative sites for the LNG import and storage facilities, including offshore sites.

—Evaluation of pipeline route alternatives.

—Identification of measures to lessen or avoid impacts on the various resource and special interest areas.

• Cumulative Impacts:

—Assessment of the effect of the proposed project when combined with other past, present or reasonably foreseeable future actions in the Port of Freeport.

Public Participation

You can make a difference by providing us with your specific comments or concerns about the project. By becoming a commentor, your concerns will be addressed in the EIS and considered by the Commission. You should focus on the potential environmental effects of the proposal, alternatives to the proposal (including alternative locations/routes), and measures to avoid or lessen environmental impact. The more specific your comments, the more useful they will be. Please carefully follow these instructions to ensure that your comments are received in time and properly recorded:

• Send an original and two copies of your letter to: Magalie R. Salas, Secretary, Federal Energy Regulatory Commission, 888 First St., NE., Room 1A, Washington, DC 20426

• Label one copy of the comments for the attention of Gas Branch 2.

• Reference Docket No. CP03-75-000.

• Mail your comments so that they will be received in Washington, DC on or before June 16, 2003 .

Please note that we are continuing to experience delays in mail deliveries from the U.S. Postal Service. As a result, we will include all comments that we receive within a reasonable time frame in our environmental analysis of this project. However, the Commission strongly encourages electronic filing of any comments or interventions or protests to this proceeding. See 18 CFR 385.2001(a)(1)(iii) and the instructions on the Commission's Web site at http://www.ferc.gov under the “e-Filing” link and the link to the User's Guide. Before you can file comments you will need to create a free account which can be created by clicking on “Login to File” and then “New User Account.”

If you do not want to send comments at this time but still want to remain on our mailing list, please return the Information Request (appendix 4). If you do not return this form or send in written comments, you will be taken off the mailing list.

Public Scoping Meeting and Site Visit

In addition to or in lieu of sending written comments, we invite you to attend the public scoping meeting we will conduct in the area. The location and time for this meeting is listed below:

June 3, 2003

7 p.m.

Lake Jackson Civic Center, 333 Highway 332 East, Lake Jackson, Texas 77566, Telephone: 979-415-2600

The public scoping meeting is designed to provide state and local agencies, interested groups, affected landowners, and the general public with more detailed information and another opportunity to offer your comments on the proposed project. Interested groups and individuals are encouraged to attend the meeting and to present comments on the environmental issues they believe should be addressed in the EIS. A transcript of the meeting will be made so that your comments will be accurately recorded.

On the day after the meeting, we will also be conducting a limited site visit to the LNG terminal site and pipeline route. Anyone interested in participating in the site visit should meet at the Quintana Town Hall on Quintana Island, near the proposed LNG terminal site at 8:30 a.m. on June 4, 2003. The meeting place is near the intersection of Lamar and 8th Streets on Quintana Island. Participants must provide their own transportation. For additional information, please contact the Commission's Office of External Affairs at (202) 502-8004.

Becoming an Intervenor

In addition to involvement in the EIS scoping process, you may want to become an official party to the proceeding known as an “intervenor”. Intervenors play a more formal role in the process. Among other things, intervenors have the right to receive copies of case-related Commission documents and filings by other intervenors. Likewise, each intervenor must provide 14 copies of its filings to the Secretary of the Commission and must send a copy of its filings to all other parties on the Commission's service list for this proceeding. If you want to become an intervenor you must file a motion to intervene according to Rule 214 of the Commission's Rules of Practice and Procedure (18 CFR 385.214) (see appendix 2).⁴ Only intervenors have the right to seek rehearing of the Commission's decision.

⁴ Interventions may also be filed electronically via the Internet in lieu of paper. See the previous discussion on filing comments electronically.

Affected landowners and parties with environmental concerns may be granted intervenor status upon showing good cause by stating that they have a clear and direct interest in this proceeding which would not be adequately represented by any other parties. You do not need intervenor status to have your environmental comments considered.

Environmental Mailing List

This notice is being sent to individuals, organizations, and government entities interested in and/or potentially affected by the proposed project. It is also being sent to all identified potential right-of-way grantors. By this notice we are also asking governmental agencies, especially those in appendix 3, to express their interest in becoming cooperating agencies for the preparation of the EIS.

Additional Information

Additional information about the project is available from the Commission's Office of External Affairs, at 1-866-208-FERC or on the FERC Internet Web site (http://www.ferc.gov) using the FERRIS link. Click on the FERRIS link, enter the docket number excluding the last three digits in the Docket Number field. Be sure you have selected an appropriate date range. For assistance with FERRIS, the FERRIS helpline can be reached at 1-866-208-3676, TTY (202) 502-8659, or at FERCOnlineSupport@ferc.gov. The FERRIS link on the FERC Internet Web site also provides access to the texts of formal documents issued by the Commission, such as orders, notices, and rulemakings.

In addition, the Commission now offers a free service called eSubscription which allows you too keep track of all formal issuances and submittals in specific dockets. This can reduce the amount of time you spend researching proceedings by automatically providing you with notification of these filings, document summaries, and direct links to the documents. Go to http://www.ferc.gov/esubscribenow.htm.

Magalie R. Salas,
Secretary.

[FR Doc. 03-12438 Filed 5-16-03; 8:45 am]

BILLING CODE 6717-01-P